DEPARTMENT OF COMMERCE

National Oceanic and Atmospheric Administration

RIN 0648-XC947

Caribbean Fishery Management Council; Public Meeting

AGENCY: National Marine Fisheries Service (NMFS), National Oceanic and Atmospheric Administration (NOAA), Commerce.

ACTION: Notice of a public meeting.

SUMMARY: The Caribbean Fishery Management Council's Outreach and Education Advisory Panel (OEAP) will meet.

DATES: The meeting will be held on November 26, 2013, from 9 a.m. to 5 p.m.

ADDRESSES: The meeting will be held at CFMC Office, 270 Muñoz Rivera Avenue, Suite 401, San Juan, Puerto Rico 00918.

FOR FURTHER INFORMATION CONTACT: Caribbean Fishery Management Council, 270 Muñoz Rivera Avenue, Suite 401, San Juan, Puerto Rico 00918, telephone: (787) 766-5926.

SUPPLEMENTARY INFORMATION: The OEAP will meet to discuss the items contained in the following agenda:

—Call to Order

—Adoption of Agenda

—OEAP Chairperson's Report

—Status of:

—Newsletter

—Web Site

—2014 Calendar

—CFMC Brochure

—St. Croix, Fuete y Verguilla Issue

—USVI Activities: “Marine Outreach & Education USVI Style”

—Caribbean Fisheries Teacher's Resource Book

—Development of Visual Aids To Identify Changes in the Essential Fish Habitat of Some Species in FMPs Management Units

—PR Commercial Fisheries Project

—Summary of Commercial and Recreational Fishing Regulations for the US Caribbean Exclusive Economic Zone

—Other Business

The OEAP meeting will convene on November 26, 2013, from 9 a.m. until 5 p.m.

The meeting is open to the public, and will be conducted in English. Fishers and other interested persons are invited to attend and participate with oral or written statements regarding agenda issues.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

This meeting is physically accessible to people with disabilities. For more information or request for sign language interpretation and/other auxiliary aids, please contact Mr. Miguel A. Rolón, Executive Director, Caribbean Fishery Management Council, 270 Muñoz Rivera Avenue, Suite 401, San Juan, Puerto Rico 00918, telephone (787) 766-5926, at least 5 days prior to the meeting date.

Dated: November 5, 2013.
Tracey L. Thompson,
Acting Deputy Director, Office of Sustainable Fisheries, National Marine Fisheries Service.

[FR Doc. 2013-26823 Filed 11-7-13; 8:45 am]

BILLING CODE 3510-22-P